DEPARTMENT OF LABOR

Employment and Training Administration

[TA-W-53,223]

Nighswonger Contract Cutting, Coquille, OR; Notice of Termination of Investigation

Pursuant to section 221 of the Trade Act of 1974, an investigation was initiated on October 14, 2003 in response to a petition filed by the South Coast Business Employment Corporation on behalf of workers at Nighswonger Contract Cutting, Coquille, Oregon.

The petitioner has requested that the petition be withdrawn. Consequently, the investigation has been terminated.

Signed in Washington, DC this 14th day of November 2003.
Richard Church,
Certifying Officer, Division of Trade Adjustment Assistance.

[FR Doc. 03-31530 Filed 12-22-03; 8:45 am]

BILLING CODE 4510-30-P